Title 3—

The President

Proclamation 10233 of July 16, 2021

Captive Nations Week, 2021

By the President of the United States of America

A Proclamation

From the founding of our Nation to today, through the crucibles of war and the struggle of successive generations, America has strived to uphold the ideals of freedom and democracy upon which our country was built and expand the ability of people around the world to freely exercise their rights. As the world's longest-standing democracy, we carry a special responsibility to lead at home and abroad, not only by the example of our power, but by the power of our example—to prove to ourselves and to the world that democracy can deliver for all people. Though much has changed in the world since President Eisenhower issued the first Captive Nations Proclamation in 1959, its call for liberty and opportunity still ring true. During Captive Nations Week, we recommit ourselves to those principles which form the foundation of our Nation, and to amplify the voices of courageous individuals around the world who are striving to advance the principles of human rights, justice, and the rule of law.

Today, far too many people are subject to routine abuses of power, as oppressive governments detain, harass, or commit acts of violence against dissenting voices; disseminate disinformation and propaganda; undermine democratic systems; and otherwise violate the public trust. These abuses are not new—but they remain as stern a threat to human rights and freedom as they have ever been.

No nation or person of conscience can ignore the voices of those crying out for liberty. We hear Belarusians peacefully calling for democratic elections, and the courageous people of Hong Kong demanding the autonomy and liberty promised by Beijing under the Sino-British Joint Declaration and Hong Kong's Basic Law. We hear millions of Uyghurs and other ethnic and religious minorities in Xinjiang, China, who have been unjustly interned and subject to surveillance and forced labor. We hear the determination of those rejecting military rule in Burma, resisting dictatorship in Venezuela, taking to streets in Cuba to demand freedom in the face of brutal state repression, and pressing for free and fair elections in Nicaragua—as well as the Crimean Tatars, ethnic Ukrainians, and other ethnic and religious minorities who suffer repression for opposing Russia's illegal occupation of Crimea.

The American creed, which defines our Nation, proclaims that all people are created equal, and deserve to be treated equally, with dignity and respect, throughout their lives. We stand in solidarity with the brave human rights activists and pro-democracy advocates around the world who risk their lives for the rights of others. We are committed to ensuring that all those who are oppressed across the globe—including people with disabilities, women and girls, members of the LGBTQI+ community, indigenous populations, and racial and ethnic minorities—are heard, respected, and protected.

During Captive Nations Week, we recommit ourselves to the timeless, vital work of advancing freedom and justice for all.

We do that by forging a more equitable and inclusive society, by solving problems and helping to ease the burdens people face, and by fulfilling our role as a global leader for human rights and fundamental freedoms of expression, association, peaceful assembly, and religion or belief. Together with our allies and partners, we must continue to strengthen democratic institutions, defend independent civil society and media freedom, promote free and fair elections, protect human rights online, insist on accountability for those who commit abuses and foster cultures of corruption, and push back against authoritarianism around the world.

The Congress, by joint resolution approved July 17, 1959 (73 Stat. 212), has authorized and requested the President to issue a proclamation designating the third week of July of each year as “Captive Nations Week.”

NOW, THEREFORE, I, JOSEPH R. BIDEN JR., President of the United States of America, do hereby proclaim July 18 through July 24, 2021, as Captive Nations Week. I call upon all Americans to reaffirm our commitment to championing those around the world who strive for liberty and justice for all.

IN WITNESS WHEREOF, I have hereunto set my hand this sixteenth day of July, in the year of our Lord two thousand twenty-one, and of the Independence of the United States of America the two hundred and forty-sixth.

[FR Doc. 2021-15686

Filed 7-20-21; 11:15 am]

Billing code 3295-F1-P